DEPARTMENT OF AGRICULTURE

Farm Service Agency

Commodity Credit Corporation

Information Collection Request; Economic Assessment of Conservation Reserve Program Lands for Hunting

AGENCY: Farm Service Agency and Commodity Credit Corporation, USDA.

ACTION: Notice; request for comments.

SUMMARY: In accordance with the Paperwork Reduction Act of 1995, the Farm Service Agency (FSA) and the Commodity Credit Corporation (CCC) are requesting comments from all interested individuals and organizations on a new information collection request associated with the Economic Assessment of Conservation Reserve Program (CRP) Lands for Hunting.

DATES: We will consider comments that we receive by May 14, 2012.

ADDRESSES: We invite you to submit comments on this notice. In your comments, include date, OMB control number, volume, and page number of this issue of the Federal Register. You may submit comments by any of the following methods:

• Federal eRulemaking Portal: Go to http://regulations.gov. Follow the online instructions for submitting comments.

• Mail: Skip Hyberg, Agricultural Economist, Economic and Policy Analysis Staff, Farm Service Agency, 1400 Independence Ave. SW., Room 3730, Mail Stop 0519, Washington, DC 20250.

Comments also should be sent to the Desk Officer for Agriculture, Office of Information and Regulatory Affairs, Office of Management and Budget, Washington, DC 20503. Copies of the information collection may be obtained from Dr. Skip Hyberg at the above address.

FOR FURTHER INFORMATION CONTACT: Dr. Skip Hyberg, (202) 720-9222. Persons with disabilities who require alternative means for communication (Braille, large print, audio tape, etc) should contact the USDA Target Center at (202) 720-2600 (voice and TDD).

SUPPLEMENTARY INFORMATION: Title: Economic Assessment of Conservation Reserve Program Lands for Hunting.

OMB Control Number: 0560-NEW.

Type of Request: New.

Abstract: As specified in the Food, Conservation, and Energy Act of 2008, (the 2008 Farm Bill, Pub. L. 110-246), FSA administers the CRP to conserve and improve soil, water, and wildlife resources. Federal investments in the CRP on private cropland enhance essential ecosystem services, including wildlife, and provide improved hunting opportunities in rural areas. Hunters from urban areas within the State and non-residents outside the State are drawn to CRP lands or other private lands surrounding CRP lands for hunting.

FSA is required by statute to consider benefits from the enhancement of wildlife habitat when selecting CRP offers. Because hunter spending increases in rural areas as hunting opportunities increase, economic activity and employment within the outdoor recreational sector are enhanced. FSA is responsible for identifying and quantifying the relationship between job creation and investments in CRP lands, as increased outdoor recreation is among the benefits FSA provides in administering the CRP.

There have been no statewide assessments of the CRP program on hunting use, expenditures, and jobs in North and South Dakota (ND and SD, respectively). The only prior studies focused on six small areas in ND and are 10 years old. There have been significant changes to the CRP program since that time. In addition, there is limited generalizability of the six ND areas to the rest of ND and SD. Without data on hunter use and expenditures, the economic contribution generated by federal investments in CRP cannot be reliably estimated.

FSA plans to conduct statewide mail surveys with ND and SD hunters to elicit information on:

(a) Their use of CRP lands in terms of days spent hunting there;

(b) Expenditure pattern information; and

(c) Net economic values.

The primary objective of the survey is to estimate the employment and income contribution of current CRP lands to the rural areas within the respective States, and possible changes to jobs and income emanating from changes in the CRP program.

We have discussed the survey with the State Fish and Game agencies and tentatively selected mail surveys. Mail surveys appear to be the best unbiased survey approach because the State Fish and Game agencies do not have email addresses for all hunters, and hunters in many rural locations of ND and SD do not have email access at home.

Collection of the data is necessary to evaluate and improve CRP selection criteria and program implementation. Having information on recreation-related jobs permits a comparison of county-level impacts of CRP land temporarily going out of crop production.

Estimate of burden: Public reporting burden for this information collection is estimated to average 20 minutes per response.

Frequency of Collection: One time only.

Respondents: Hunters in ND and SD.

Estimated Number of Annual Respondents: 2,400.

Estimated Number of Responses per Respondent: 1.

Estimated Total Annual Responses: 2,400.

Estimated Total Annual Burden on Respondents: 800 hours.

We are requesting comments on all aspects of this information collection to help us to:

(1) Evaluate whether the collection of information is necessary for the proper performance of the functions of FSA, including whether the information will have practical utility;

(2) Evaluate the accuracy of FSA's estimate of burden, including the validity of the methodology and assumptions used;

(3) Enhance the quality, utility, and clarity of the information to be collected; and

(4) Minimize the burden of the collection of information on those who are to respond, including through the use of appropriate automated, electronic, mechanical, or other technological collection techniques or other forms of information technology.

All responses to this notice, including names and addresses when provided, will be summarized and included in the request for OMB approval. All comments will also become a matter of public record.

Signed on March 6, 2012.
Bruce Nelson,
Administrator, Farm Service Agency, Executive Vice President, Commodity Credit Corporation.

[FR Doc. 2012-6011 Filed 3-12-12; 8:45 am]

BILLING CODE 3410-05-P